DEPARTMENT OF THE INTERIOR

Bureau of Land Management

[CACA-049491, LLCAD01500 L51010000 FX0000 LVRWB12B4920]

Notice of Availability of the Record of Decision for the EDF Renewable Energy Desert Harvest Solar Field Project and California Desert Conservation Area Plan Amendment, Riverside County, California

AGENCY: Bureau of Land Management, Interior.

ACTION: Notice of availability.

SUMMARY: The Bureau of Land Management (BLM) announces the availability of the Record of Decision (ROD)/Approved Amendment to the California Desert Conservation Area (CDCA) Plan, for the Desert Harvest Solar Project (DHSP), in Riverside County, California. The Secretary of the Interior approved the ROD on March 13, 2013, which constitutes the final decision of the Department.

ADDRESSES: Copies of the ROD/Approved Amendment to the CDCA Plan are available upon request from the BLM Field Manager, Palm Springs-South Coast Field Office, 1201 Bird Center Drive, Palm Springs, CA 92262 and the BLM California Desert District Office, 22835 Calle San Juan de Los Lagos, Moreno Valley, CA 92553, or via the Internet at the following Web site: http://www.blm.gov/ca/st/en/fo/palmsprings/Solar_Projects/Desert_Harvest_Solar_Project.html.

FOR FURTHER INFORMATION CONTACT: Frank McMenimen, BLM Project Manager, telephone 760-833-7150; mail 1201 Bird Center Drive, Palm Springs, California 92262; email fmcmenimen@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: EDF Renewable Energy (formerly enXco Development Corporation) (Applicant) has requested right-of-way (ROW) grant authorization to construct, operate, maintain, and decommission an up to 150-megawatt (MW), nominal capacity, alternating current, solar photovoltaic (PV) energy generation facility and necessary ancillary facilities including an operations and maintenance (O&M) facility, site security, on-site substation, switchyard, access road, and a 220-kilovolt (kV) generation interconnection line (gen-tie line). The project site is located approximately 6 miles north of Interstate 10 and the rural community of Desert Center and 3 miles north of Lake Tamarisk, between the cities of Coachella and Blythe.

The project site is in the California Desert District within the planning boundary of the CDCA Plan, which is the applicable Resource Management Plan for the project site and the surrounding areas. The CDCA Plan, while recognizing the potential compatibility of solar generation facilities on public lands, requires that all sites associated with power generation or transmission not already identified in the Plan be considered through the BLM's land use plan amendment process. As a result, prior to approval of a ROW grant to the DHSP, the BLM must amend the CDCA Plan to allow the solar generating project on that site. Additionally, the CDCA Plan also requires that transmission lines above 161 kV be placed within a federally designated utility corridor or that the transmission line be specifically allowed outside a corridor through a plan amendment process. Since there is no designated corridor from DHSP generation tie-in transmission line, the CDCA Plan must also be amended to allow that line outside of a designated corridor. The approved Amendment to the CDCA Plan specifically revises the CDCA Plan to allow for the development of the DHSP and ancillary facilities on land managed by the BLM. The BLM selected alternative would result in construction of a solar farm, capable of generating up to 150 MW of electricity, and is within the range of alternatives analyzed in the Final Environmental Impact Statement (EIS). The Notice of Availability of the Final EIS for the DHSP and proposed CDCA Plan Amendment was published in the Federal Register on November 2, 2012 (77 FR 66183).

Publication of the Notice of Availability for the Final EIS and Proposed CDCA Plan Amendment initiated a 30-day protest period for the proposed amendment to the CDCA Plan. At the close of the 30-day protest period, six protests were received and resolved. Their resolution is summarized in the Director's Protest Summary Report, available online at http://www.blm.gov/pgdata/content/wo/en/prog/planning/planning_overview/protest_resolution.html. The proposed amendment to the CDCA Plan was not modified as a result of the protest resolution, however, the BLM did provide some clarifications and modifications to project mitigation measures. These clarifications and modifications were minor and do not warrant supplementation of the Final EIS. Simultaneously with the protest period, the Governor of California conducted a consistency review for the proposed CDCA Plan Amendment to identify any inconsistencies with State or local plans, policies, or programs. No inconsistencies were identified.

Because the decisions described in the ROD are approved by the Secretary of the Interior, they are not subject to administrative appeal (43 CFR 4.410(a) (3)).

Authority: 40 CFR 1506.6.

Jamie Connell,
Acting Deputy Director, Bureau of Land Management.

[FR Doc. 2013-06672 Filed 3-21-13; 8:45 am]

BILLING CODE 4310-40-P